DEPARTMENT OF THE INTERIOR

National Park Service

[NPS-WASO-NAGPRA-15441; PPWOCRADN0-PCU00RP14.R50000]

Notice of Inventory Completion: Beneski Museum of Natural History, Amherst College, Amherst, MA

AGENCY: National Park Service, Interior.

ACTION: Notice.

SUMMARY: The Beneski Museum of Natural History, Amherst College (formerly the Pratt Museum of Natural History) has completed an inventory of human remains, in consultation with the appropriate Indian tribes or Native Hawaiian organizations, and has determined that there is a cultural affiliation between the human remains and present-day Indian tribes or Native Hawaiian organizations. Lineal descendants or representatives of any Indian tribe or Native Hawaiian organization not identified in this notice that wish to request transfer of control of these human remains should submit a written request to the Beneski Museum of Natural History, Amherst College. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to the Beneski Museum of Natural History, Amherst College at the address in this notice by June 16, 2014.

ADDRESSES: Tekla A. Harms, NAGPRA Coordinator, Beneski Museum of Natural History, Amherst College, Amherst, MA 01002, telephone (413) 542-2711, email taharms@amherst.edu.

SUPPLEMENTARY INFORMATION: Notice is here given in accordance with the Native American Graves Protection and Repatriation Act (NAGPRA), 25 U.S.C. 3003, of the completion of an inventory of human remains under the control of the Beneski Museum of Natural History, Amherst College, Amherst, MA. The human remains were removed from the towns of Easthampton in Hampshire County, MA, and Greenfield in Franklin County, MA.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the NAGPRA Coordinator and museum staff of the Beneski Museum of Natural History, Amherst College, working with the professional staff of the University of Massachusetts Amherst, Department of Anthropology, in consultation with representatives of the Mashantucket Pequot Indian Tribe (previously listed as the Mashantucket Pequot Tribe of Connecticut); Mashpee Wampanoag Indian Tribe (previously listed as the Mashpee Wampanoag Indian Tribal Council, Inc.); Mohegan Indian Tribe of Connecticut; Narragansett Indian Tribe; Stockbridge Munsee Community, Wisconsin; Wampanoag Tribe of Gay Head (Aquinnah); and non-Federally recognized Indian groups, including Abenaki Nation of Missisquoi, St. Francis/Sokoki Band, VT; Abenaki Nation of New Hampshire; Cowasuck Band of the Pennacook-Abenaki People, NH; Elnu Tribe of the Abenaki, VT; Koasek (Cowasuck) Traditional Band of the Koas Abenaki Nation, VT; Koasek Traditional Band of the Sovereign Abenaki Nation, VT; Nulhegan Band of the Coosuk-Abenaki Nation, VT; and Chaubunagungamaug Nipmuck and Nipmuc Nation, MA. Representatives of the University of Massachusetts Amherst, Department of Anthropology, on behalf of the Beneski Museum of Natural History, Amherst College, also contacted but did not consult with the non-Federally recognized Indian groups Schaghticoke Indian Tribe and Schaghticoke Tribal Nation, CT.

History and Description of the Remains

In 1871, human remains representing, at minimum, four individuals were removed from a site in the town of Easthampton at the north end of Mt Tom, in Hampshire County, MA. The remains were excavated during construction for a railroad and were donated to Amherst College by Horatio N. Rust sometime before 1916. The human remains include four crania or partial crania, cranial fragments, and several teeth, along with one post-cranial skeletal element, best identified as two adults and two children. Contemporaneous catalog entries indicate the remains were understood at the time of excavation to be Native American and to represent burial sites of the indigenous population. These human remains have been identified as Nonotuck. No known individuals were identified. No associated funerary objects are present.

In 1916, human remains representing, at minimum, one individual were removed from the Cheapside site in the town of Greenfield, Franklin County, MA. This individual was encountered during railroad construction and removed by Ralph Wheaton Whipple of Amherst College, working in collaboration with Harris Hawthorne Wilder of Smith College. The individual is represented by post-cranial skeletal elements with some burial dirt attached and is best identified as an adult male over the age of 50. Records suggest that the skeleton was at Smith College in 1941, but held at Amherst College at all other times. Contemporaneous field notes and a publication (American Anthropologist, 1917) indicate the remains were understood at the time of excavation to be Native American and to represent burial sites of the indigenous population. These remains are identified as Pocumtuck. No known individual was identified. No associated funerary objects are present.

Multiple lines of evidence—guided by tribal consultations—including geographic location, maps, oral tradition, linguistic, and historical records demonstrate a shared group identity between the human remains in this notice and the Narragansett Indian Tribe; Stockbridge Munsee Community, Wisconsin; Wampanoag Tribe of Gay Head (Aquinnah) (hereafter referred to as “The Tribes”); and non-Federally recognized Indian groups, including Abenaki Nation of Missisquoi, St. Francis/Sokoki Band, VT; Abenaki Nation of New Hampshire; Cowasuck Band of the Pennacook-Abenaki People, NH; Elnu Tribe of the Abenaki, VT; Koasek (Cowasuck) Traditional Band of the Koas Abenaki Nation, VT; Koasek Traditional Band of the Sovereign Abenaki Nation, VT; Nulhegan Band of the Coosuk-Abenaki Nation, VT; and Chaubunagungamaug Nipmuck and Nipmuc Nation, MA (hereafter referred to as “The Indian Groups”).

Determinations Made by the Beneski Museum of Natural History, Amherst College

Officials of the Beneski Museum of Natural History, Amherst College (formerly the Pratt Museum of Natural History) have determined that:

• Pursuant to 25 U.S.C. 3001(9), the human remains described in this notice represent the physical remains of five individuals of Native American ancestry.

• Pursuant to 25 U.S.C. 3001(2), there is a relationship of shared group identity that can be reasonably traced between the Native American human remains and The Tribes and The Indian Groups.

Additional Requestors and Disposition

Lineal descendants or representatives of any Indian tribe or Native Hawaiian organization not identified in this notice that wish to request transfer of control of these human remains should submit a written request with information in support of the request to Tekla A. Harms, NAGPRA Coordinator, Beneski Museum of Natural History, Amherst College, Amherst, MA 01002, telephone (413) 542-2711, email taharms@amherst.edu by June 16, 2014. After that date, if no additional requestors have come forward, transfer of control of the human remains to The Tribes may proceed.

The Beneski Museum of Natural History, Amherst College is responsible for notifying The Tribes and The Indian Groups that this notice has been published.

Dated: April 2, 2014.
Sherry Hutt,
Manager, National NAGPRA Program.

[FR Doc. 2014-11243 Filed 5-14-14; 8:45 am]

BILLING CODE 4312-50-P